DEPARTMENT OF TRANSPORTATION

Federal Aviation Administration

14 CFR Part 71

[Docket No. FAA-2008-0024; Airspace Docket No. 08-AGL-4]

Amendment of Class E Airspace; Black River Falls, WI

AGENCY: Federal Aviation Administration (FAA), DOT.

ACTION: Direct final rule; withdrawal.

SUMMARY: A direct final rule, published in the Federal Register February 11, 2008, (73 FR 7668), FAA Docket No. FAA-2008-0024, establishing Class E airspace at Black River Falls Area Airport, is being withdrawn. The FAA has found that Class E airspace already exists for the area, and therefore, substantial corrections would need to be made. In the interest of clarity, this rule is being withdrawn, and a new rulemaking amending the existing airspace will be forthcoming.

DATES: Effective Date: 0901 UTC March 20, 2008.

FOR FURTHER INFORMATION CONTACT: Joe Yadouga, Central Service Center, System Support Group, Federal Aviation Administration, Southwest Region, Fort Worth, Texas 76193-0530; telephone number (817) 222-5597.

SUPPLEMENTARY INFORMATION:

History

On Monday, February 11, 2008, a direct final rule was published in the Federal Register (73 FR 7668), Docket No. FAA-2008-0024, establishing Class E airspace at 08-AGL-04 2 Black River Falls Area Airport, Black River Falls, WI. Subsequent to publication, the FAA found that Class E airspace already exists for this area. The FAA feels a correction to this rulemaking would be confusing. Therefore, the FAA is withdrawing this direct final rule and will replace it with an amendment to the existing Class E airspace for Black River Falls, WI.

Withdrawal of Direct Final Rule

Accordingly, pursuant to the authority delegated to me, the Federal Aviation Administration withdraws the direct final rule published in the Federal Register February 11, 2008 (73 FR 7668).

* * * * *

Issued in Fort Worth, TX, on March 5, 2008.
Donald R. Smith,
Manager, System Support Group, ATO Central Service Center.

[FR Doc. E8-5165 Filed 3-19-08; 8:45 am]

BILLING CODE 4910-13-M